DEPARTMENT OF THE INTERIOR

Bureau of Land Management

[AK-020-1610-DO]

Notice of Intent To Prepare the South National Petroleum Reserve-Alaska Integrated Activity Plan and To Prepare an Accompanying Environmental Impact Statement, Request for Information, Call for Nominations and Comments, and Solicitation of Interest in Hardrock and Coal Mining

AGENCY: Bureau of Land Management, Interior.

ACTION: Notice of intent.

SUMMARY: The Bureau of Land Management (BLM), Alaska State Office, is preparing an Integrated Activity Plan (IAP) for the South portion of the National Petroleum Reserve-Alaska (NPR-A) and an accompanying Environmental Impact Statement (EIS). This Notice initiates the public scoping process and a Call for Nominations related to oil and gas leasing. It also requests public input on hardrock and coal mining.

DATES: Scoping comments can be submitted in writing to the address listed below and will be accepted until August 26, 2005. Scoping meetings will be held in northwestern Alaska, Anchorage and Fairbanks. All public meetings will be announced through the local news media and a mailing. Responses to the Call for Nominations related to oil and gas leasing are also due no later than August 26, 2005.

ADDRESSES: Scoping comments should be submitted to: South NPR-A Planning Team Leader, 222 West 7th Avenue, #13, Anchorage, Alaska 99513-7599.

Responses to the Call for Nominations must be submitted in envelopes labeled “Nominations Related to the South NPR-A IAP/EIS” to protect the confidentiality of the nominations. They are to be addressed to: Call for Nominations, South NPR-A Team, 222 West 7th Avenue, #13, Anchorage, Alaska 99513-7599.

FOR FURTHER INFORMATION CONTACT: Jim Ducker (907-271-3130) or Susan Childs (907-271-1985) by phone or by mail at 222 W. 7th Avenue, #13, Anchorage, AK 99513-7599.

SUPPLEMENTARY INFORMATION: The BLM published a Record of Decision (ROD) October 7, 1998, for the Northeast National Petroleum Reserve-Alaska Integrated Activity Plan/Environmental Impact Statement. An amendment to that plan is in progress; a Final EIS for the amendment was issued January 28, 2005. On January 22, 2004 BLM published a ROD for the Northwest National Petroleum Reserve-Alaska Integrated Activity Plan/Environmental Impact Statement. The South National Petroleum Reserve-Alaska Integrated Activity Plan/Environmental Impact Statement (South IAP/EIS) will complete planning for the Petroleum Reserve, the largest contiguous land under BLM management.

The objectives of the South IAP/EIS are three-fold:

1. To examine what, if any, lands are appropriate to be made available for oil and gas leasing and to identify the performance-based mitigations that should be adopted to protect resources if oil and gas leasing is authorized.

2. Identify options for and impacts of a range of management actions that BLM land planning guidance recommends be considered in land use plans, including recommendations for designation of Wild and Scenic Rivers.

3. Identify options for and impacts of a range of management actions relevant to certain resources and land uses of particular concern either to the public or to BLM. These include the desired population and habitat conditions, and/or management goals and actions appropriate to achieve these goals for various species (including cliff-dwelling raptors, buff-breasted sandpipers, Pacific salmon, fish habitat, grizzly bears, wolverines), recreation opportunities, and cultural resources. Additional topics may be developed through the public scoping.

In addition, the BLM is taking this opportunity to learn whether there is interest in making part or all of the planning area available for hard rock or coal mining. It would require Congressional legislation to open these lands to such mining. The South IAP/EIS may analyze alternatives that would contemplate recommendations for opening.

During the course of development of the South IAP/EIS, BLM will also develop a river management plan for the Colville River. These plans will be developed in tandem and the Colville River Management Plan will tier off both the management decision developed through the South IAP/EIS and the Records of Decision for the Northeast and Northwest portions of the Petroleum Reserve.

The purpose of this notice is to seek comment on the South IAP/EIS and to call for nomination of areas to be considered for oil and gas leasing. Information and comments on specific issues to be addressed in the plan are sought from all interested parties. This early planning and consultation step is important for ensuring that all interests and concerns are communicated to the BLM Northern Field Office manager for decisions in land use, planning, and management.

The South planning area is described as beginning on the Petroleum Reserve boundary on the township line between T. 8 N., R. 40 W. and T. 9 N., R. 39 W., Umiat Meridian (U.M.), and thence easterly along the township lines to the northeast corner of T. 8 N., R. 26 W., U.M., thence southerly and easterly along township and section lines in a stair-step fashion to the Petroleum Reserve boundary where the Colville River flows from T. 5 S., R. 15 W. to T. 4 S., R. 15 W., U.M., thence generally westerly, southerly, westerly, and northerly following the boundary of the Petroleum Reserve to the point of beginning. This area consists of approximately 9.2 million acres. A map of the plan area (which also serves as the Call map) showing boundaries of the area on a township-by-township basis is available at BLM's Information Center in the Anchorage Federal Office Building, 222 West 7th Avenue, Anchorage, (907-271-5960).

Call for Nominations: Pursuant to 43 CFR 3131.1 and 3131.2, relevant information related to possible oil and gas leasing is requested for the plan area. Oil and gas companies are specifically requested to nominate areas within the plan area that they would like to have considered for oil and gas leasing. Nominations must be depicted on a Call map by outlining the area(s) of interest along township lines. Nominators are asked to submit a list of townships nominated to facilitate correct interpretation of the Call map. Although the identities of those submitting nominations for oil and gas leasing become a matter of public record, the individual nominations will be held confidential.

Nominators also are requested to rank townships nominated for oil and gas leasing according to priority of interest (e.g., high priority 1, medium priority 2, or low priority 3). Townships nominated that do not indicate priorities will be considered priority 3. Blanket priorities on large areas are not useful in the analysis of industry interest. The telephone number and name of a person to contact in the nominator's organization for additional information should be included in the response.

Although nominations are to be submitted along township lines, comments are also being sought on the preferred size of tracts for leasing in this area, not to exceed 60,000 acres. 43 CFR 3130.4-1 limits the size of an oil and gas lease tract within the NPR-A boundaries to no more than 60,000 acres.

Authority: Federal Land Policy and Management Act of 1976 (43 U.S.C. 1701 et seq.), as amended; the National Environmental Policy Act of 1969 (42 U.S.C. 4321 et seq.), as amended; Title I of the Naval Petroleum Reserves Production Act of 1976 (42 U.S.C. 6501 et seq.), as amended by the Department of the Interior and Related Agencies Appropriations Act for Fiscal Year 1981, Pub. L. 96-514, 94 Stat. 2957, 2964 (codified in 42 U.S.C. 6508); the Alaska National Interest Lands Conservation Act, Pub. L. 96-487, 94 Stat. 2371, section 810, 16 U.S.C. 3120; and the regulations at 43 CFR parts 2360 and 3130.

Henri R. Bisson,
State Director.

[FR Doc. 05-11773 Filed 6-14-05; 8:45 am]

BILLING CODE 4310-JA-P